DEPARTMENT OF COMMERCE

Foreign-Trade Zones Board

[Docket 58-2010]

Foreign-Trade Zone 51—Duluth, MN; Application for Reorganization Under Alternative Site Framework

An application has been submitted to the Foreign-Trade Zones (FTZ) Board (the Board) by the Duluth Seaway Port Authority, grantee of FTZ 51, requesting authority to reorganize the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on October 1, 2010.

FTZ 51 was approved by the Board on November 27, 1979 (Board Order 149, 44 FR 70508; 12/7/1979) and expanded on September 23, 1982 (Board Order 197, 47 FR 43102, 9/30/1982).

The current zone project includes the following sites: Site 1 (27.3 acres)—located within the Arthur M. Clure Public Marine Terminal, Duluth; and, Site 2 (3 acres)—located within the Airpark Industrial Park at Enterprise Circle and Airpark Boulevard, Duluth.

The grantee's proposed service area under the ASF would be Carlton and Lake Counties, as well as portions of Itasca and St. Louis Counties, Minnesota, as described in the application. If approved, the grantee would be able to serve sites throughout the service area based on companies' needs for FTZ designation. The proposed service area is within and adjacent to the Duluth Customs and Border Protection port of entry.

The applicant is requesting authority to reorganize its existing zone project to include the existing sites as “magnet” sites. The ASF allows for the possible exemption of one magnet site from the “sunset” time limits that generally apply to sites under the ASF, and the applicant proposes that Site 1 be so exempted. The applicant has also requested that Site 1 be expanded to include an additional 34.15 acres. Because the ASF only pertains to establishing or reorganizing a general-purpose zone, the application would have no impact on FTZ 51's authorized subzone.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is December 6, 2010. Rebuttal comments in response to material submitted during the foregoing period may be submitted during the subsequent 15-day period to December 20, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Elizabeth Whiteman at Elizabeth.Whiteman@trade.gov or (202) 482-0473.

Dated: October 1, 2010.
Andrew McGilvray,
Executive Secretary.

[FR Doc. 2010-25225 Filed 10-5-10; 8:45 am]

BILLING CODE P